NUCLEAR REGULATORY COMMISSION

[NRC-2015-0001]

Sunshine Act Meeting Notice

DATE: September 14, 21, 28, October 5, 12, 19, 2015.

PLACE: Commissioners' Conference Room, 11555 Rockville Pike, Rockville, Maryland.

STATUS: Public and Closed.

Week of September 14, 2015

There are no meetings scheduled for the week of September 14, 2015.

Week of September 21, 2015—Tentative

Tuesday, September 22, 2015

9:30 a.m. Discussion of Management and Personnel Issues (Closed—Ex. 2 & 6).

Thursday, September 24, 2015

9:30 a.m. Strategic Programmatic Overview of the New Reactors Business Line (Public Meeting); (Contact: Donna Williams: 301-415-1322).

This meeting will be webcast live at the Web address— http://www.nrc.gov/.

Week of September 28, 2015—Tentative

Monday, September 28, 2015

1:30 p.m. NRC All Employees Meeting (Public Meeting), Marriott Bethesda North Hotel, 5701 Marinelli Road, Rockville, MD 20852.

Thursday, October 1, 2015

9:00 a.m. Strategic Programmatic Overview of the Decommissioning and Low-Level Waste and Spent Fuel Storage and Transportation Business Lines (Public Meeting); (Contact: Damaris Marcano: 301-415-7328).

This meeting will be webcast live at the Web address— http://www.nrc.gov/.

Week of October 5, 2015—Tentative

There are no meetings scheduled for the week of October 5, 2015.

Week of October 12, 2015—Tentative

There are no meetings scheduled for the week of October 12, 2015.

Week of October 19, 2015—Tentative

Monday, October 19, 2015

9:30 a.m. Briefing on Security Issues (Closed—Ex. 1).

Wednesday, October 21, 2015

9:00 a.m. Joint Meeting of the Federal Energy Regulatory Commission and the Nuclear Regulatory Commission (Public Meeting); (Contact: Tania Martinez-Navedo: 301-415-6561).

* * * * *

The schedule for Commission meetings is subject to change on short notice. For more information or to verify the status of meetings, contact Glenn Ellmers at 301-415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: September 10, 2015.
Glenn Ellmers,
Policy Coordinator, Office of the Secretary.

[FR Doc. 2015-23173 Filed 9-10-15; 4:15 pm]

BILLING CODE 7590-01-P